DEPARTMENT OF TRANSPORTATION

Federal Aviation Administration

RTCA, Inc.; Government/Industry Free Flight Steering Committee

Pursuant to section 10(a)(2) of the Federal Advisory Committee Act (Pub. L. 92-463, 5 U.S.C., Appendix 2), notice is hereby given for an RTCA Government/Industry Free Flight Steering Committee meeting to be held December 13, starting at 1:00 p.m. The meeting will be held at the Federal Aviation Administration, 800 Independence Avenue, SW., Washington, DC, 20591, in the Bessie Coleman Conference Center, Room 2AB (second floor).

The agenda will include: (1) Welcome and Opening Remarks; (2) Review Summary of the Previous Meeting; (3) Report from FAA: (a) Free Flight Phase 1 Operational Assessment Update; (b) End-to-End Checklist for Safe Flight 21 Applications; (c) FAA Primary en Route Radar Restructuring Program; (4) Report and Recommendation from the Free Flight Select Committee: (d) National Airspace System Concept of Operations; (e) Addendum 4: Free Flight Phase 2; (5) CNS/ATM Focus Team Data Link Report; (6) Other Business; (7) Date and Location of Next Meeting; (8) Closing Remarks.

Attendance is open to the interested public but limited to space availability. With the approval of the co-chairmen, members of the public may present oral statements at the meeting. Persons wishing to present statements or obtain information should contact the RTCA, Inc., at (202) 833-9339 (phone), (202) 833-9434 (facsimile).

Issued in Washington, DC on November 15, 2000.
Janice L. Peters,
Designated Official.

[FR Doc. 00-30255 Filed 11-27-00; 8:45 am]

BILLING CODE 4910-13-M